DEPARTMENT OF ENERGY

Federal Energy Regulatory Commission

[Project No. 15029-001]

SV Hydro, LLC; Notice of Surrender of Preliminary Permit

Take notice that SV Hydro, LLC, permittee for the proposed Itasca County Pumped Storage Project, has requested that its preliminary permit be terminated. The permit was issued on October 28, 2020, and would have expired on September 30, 2024.¹ The project would have been located near the City of Marble, Itasca County, Minnesota.

¹ 173 FERC ¶ 62,047 (2020).

The preliminary permit for Project No. 15029 will remain in effect until the close of business, April 28, 2023. But, if the Commission is closed on this day, then the permit remains in effect until the close of business on the next day in which the Commission is open.² New applications for this site may not be submitted until after the permit surrender is effective.

² 18 CFR 385.2007(a)(2) (2022).

Dated: March 29, 2023.
Kimberly D. Bose,
Secretary.

[FR Doc. 2023-07016 Filed 4-4-23; 8:45 am]

BILLING CODE 6717-01-P